DEPARTMENT OF THE INTERIOR

Fish and Wildlife Service

[FWS-R8-R-2009-N261; 80230-1265-0000-S3]

Don Edwards San Francisco Bay National Wildlife Refuge, Alameda, Santa Clara, and San Mateo Counties, CA

AGENCY: Fish and Wildlife Service, Interior.

ACTION: Notice of intent to prepare a comprehensive conservation plan and environmental assessment; request for comments.

SUMMARY: We, the U.S. Fish and Wildlife Service (Service), intend to prepare a Comprehensive Conservation Plan (CCP) and Environmental Assessment (EA) for the Don Edwards San Francisco Bay National Wildlife Refuge located in Alameda, Santa Clara, and San Mateo Counties of California. We provide this notice in compliance with our CCP policy to advise other Federal and State agencies, Tribes, and the public of our intentions, and to obtain suggestions and information on the scope of issues to consider in the planning process.

DATES: To ensure consideration, we must receive your written comments by April 26, 2010.

ADDRESSES: Send your comments or requests for more information by any of the following methods.

E-mail: sfbaynwrc@fws.gov. Include “Don Edwards San Francisco Bay CCP” in the subject line of the message.

Fax: Attn: Winnie Chan, (510) 792-5828.

U.S. Mail: San Francisco Bay National Wildlife Refuge Complex, 9500 Thornton Avenue, Newark, CA 94560.

In-Person Drop-off: You may drop off comments during regular business hours; please call (510) 792-0222 for directions.

FOR FURTHER INFORMATION CONTACT: Winnie Chan, Refuge Planner, or Eric Mruz, Refuge Manager, at (510) 792-0222 or sfbaynwrc@fws.gov. Further information may also be found at http://www.fws.gov/desfbay.

SUPPLEMENTARY INFORMATION:

Introduction

With this notice, we initiate our process for developing a CCP for Don Edwards San Francisco Bay NWR in Alameda, Santa Clara, and San Mateo Counties, CA. This notice complies with our CCP policy to (1) advise other Federal and State agencies, Tribes, and the public of our intention to conduct detailed planning on this refuge and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the National Wildlife Refuge System was established for specific purposes. We use these purposes as the foundation for developing and prioritizing the management goals and objectives for each refuge within the National Wildlife Refuge System mission, and to determine how the public can use each refuge. The planning process is a way for us and the public to evaluate management goals, objectives, and strategies that will ensure the best possible approach to wildlife, plant, and habitat conservation, while providing for wildlife-dependent recreation opportunities that are compatible with each refuge's establishing purposes and the mission of the National Wildlife Refuge System.

Our CCP process provides opportunities for participation by Tribal, State, and local governments; agencies; organizations; and the public. We will be contacting identified stakeholders and individuals at this time for initial input. If you would like to meet with planning staff or would like to receive periodic updates, please contact us (see ADDRESSES section). We anticipate holding public meetings for initial comments and when alternative management scenarios have been identified. At this time we encourage comments in the form of issues, concerns, ideas, and suggestions for the future management of Don Edwards San Francisco Bay NWR.

We will conduct the environmental review of this project in accordance with the requirements of the National Environmental Policy Act of 1969, as amended (NEPA) (42 U.S.C. 4321 et seq.); NEPA regulations (40 CFR parts 1500-1508); other appropriate Federal laws and regulations; and our policies and procedures for compliance with those laws and regulations.

Don Edwards San Francisco Bay National Wildlife Refuge

Don Edwards San Francisco Bay National Wildlife Refuge was created by Congress under Public Law 92-330 in 1972, but we did not acquire any lands within the Refuge until 1974. The Refuge was established to preserve and enhance wildlife habitat, protect migratory birds, protect threatened and endangered species, and provide opportunities for wildlife-dependent recreation and environmental education under several acts, including the Act Authorizing the Transfer of Certain Real Property for Wildlife, or other purposes (16 U.S.C. 667b), Endangered Species Act of 1973 (16 U.S.C. 1537), and the Fish and Wildlife Act of 1956 (16 U.S.C. 742f(b)(1)). The 30,000-acre Don Edwards San Francisco Bay National Wildlife Refuge, located in Alameda, Santa Clara, and San Mateo Counties of California, consists of several non contiguous parcels divided into four management units that surround the southern edge of the San Francisco Bay.

Scoping: Preliminary Issues, Concerns, and Opportunities

We have identified preliminary issues, concerns, and opportunities that we may address in the CCP. These include: Wildlife management, habitat management, wildlife-dependent recreation, environmental education, and cultural resources. During public scoping, we may identify additional issues.

Public Meetings

We will give the public an opportunity to provide input at a public meeting (or meetings). You can obtain the schedule from the refuge planner or refuge manager (see FOR FURTHER INFORMATION CONTACT). You may also submit comments or request a meeting during the planning process by mail, e-mail, or fax (see ADDRESSES). There will be additional opportunities to provide public input once we have prepared a draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: February 11, 2010.
Ken McDermond,
Acting Regional Director, Pacific Southwest Region, Sacramento, California.

[FR Doc. 2010-3557 Filed 2-22-10; 8:45 am]

BILLING CODE 4310-55-P